DEPARTMENT OF THE INTERIOR

National Park Service

[NPS-NER-MAMC-16754; PPNCNACEN0, PPMPSAS1Z.Y00000]

Request for Nominations for the Mary McLeod Bethune Council House National Historic Site Advisory Commission

AGENCY: National Park Service, Interior.

ACTION: Request for nominations.

SUMMARY: The National Park Service, U.S. Department of the Interior, is seeking nominations for the Mary McLeod Bethune Council House National Historic Site Advisory Commission (Commission). The purpose of the Commission is to advise the Secretary of the Interior in the implementation of a general management plan for the Mary McLeod Bethune Council House National Historic Site.

DATES: Written nominations must be postmarked by July 1, 2015.

ADDRESSES: Send nominations to Gopaul Noojibail, Superintendent, National Capital Parks-East, Attention: Vicky Gammon, Chief of Staff, National Capital Parks-East, National Park Service, 1900 Anacostia Drive SW., Washington, DC 20020, telephone (202) 690-5193, or email vicky_gammon@nps.gov.

FOR FURTHER INFORMATION CONTACT: Vicky Gammon, Chief of Staff, National Capital Parks-East, National Park Service, 1900 Anacostia Drive SW., Washington, DC 20020, telephone (202) 690-5193, or email NACE_Superintendent@nps.gov.

SUPPLEMENTARY INFORMATION: The Mary McLeod Bethune Council House National Historic Site Advisory Commission was authorized on December 11, 1991, by Public Law 102-211 (16 U.S.C. 461 note), for the purpose of advising the Secretary of the Interior in the implementation a general management plan for the Mary McLeod Bethune Council House National Historic Site.

The Commission is composed of 15 members, each of which is appointed by the Secretary for a 4-year term. Nominations are seeking nominations for members representing each of the following categories: three members appointed from recommendations submitted by the National Council of Negro Women, Inc.; two members appointed from recommendations submitted by other national organizations in which Mary McLeod Bethune played a leadership role; two members who shall have professional expertise in the history of African American women; three members who shall have professional expertise in archival management; three members who shall represent the general public; and two members who shall have professional expertise in historic preservation.

Members of the Commission will receive no pay, allowances, or benefits by reason of their service on the Commission. However, while away from their homes or regular places of business in the performance of services for the Commission as approved by the Designated Federal Officer, members will be allowed travel expenses, including per diem in lieu of subsistence, in the same manner as persons employed intermittently in Government service are allowed such expenses under 5 U.S.C. 5703.

Individuals who are federally registered lobbyists are ineligible to serve on FACA and non-FACA boards, committees, or councils in an individual capacity. The term “individual capacity” refers to individuals who are appointed to exercise their own individual best judgment on behalf of the government, such as when they are designated Special Government Employees, rather than being appointed to represent a particular interest.

Seeking Nominations For Membership

We are seeking nominations for commission members in all categories. Nominations should include a resume providing an adequate description of the nominee's qualifications, including information that would enable the Department of the Interior to make an informed decision regarding meeting the membership requirements of the Commission and permit the Department to contact a potential member.

Individuals who have already applied for nomination need not reapply unless you would like to update your nomination and/or supporting documentation.

Dated: May 19, 2015.
Alma Ripps,
Chief, Office of Policy.

[FR Doc. 2015-13116 Filed 5-29-15; 8:45 am]

BILLING CODE 4310-EE-P